DEPARTMENT OF TRANSPORTATION

Federal Aviation Administration

14 CFR Part 39

[Docket No. 2000-NM-218-AD; Amendment 39-11845; AD 2000-15-13]

RIN 2120-AA64

Airworthiness Directives; McDonnell Douglas Model MD-11 Series Airplanes

AGENCY: Federal Aviation Administration, DOT.

ACTION: Final rule; request for comments.

SUMMARY: This amendment supersedes an existing airworthiness directive (AD), applicable to certain McDonnell Douglas Model MD-11 series airplanes, that currently requires a one-time inspection to verify correct wire terminations of certain circuit breakers in the cockpit overhead switch panel; and correction of incorrect wire termination. That AD also requires that operators submit a report of the inspection results to the FAA. That AD was prompted by incidents in which the wiring of circuit breakers on the overhead switch panel lighting were found to be terminated improperly during production of the airplane, which bypassed the circuit breaker protection. This amendment expands the applicability of the existing AD to include additional airplanes, and removes the reporting requirement. The actions specified in this AD are intended to prevent smoke and possible fire in the overhead switch panel lighting circuitry due to an overload condition, as a result of lack of circuit breaker protection.

DATES: Effective August 23, 2000.

The incorporation by reference of McDonnell Douglas Alert Service Bulletin MD11-33A027, dated March 10, 1999, as listed in the regulations, was approved previously by the Director of the Federal Register as of May 7, 1999 (64 FR 19695, April 22, 1999).

The incorporation by reference of certain other publications listed in the regulations is approved by the Director of the Federal Register as of August 23, 2000.

Comments for inclusion in the Rules Docket must be received on or before October 10, 2000.

ADDRESSES: Submit comments in triplicate to the Federal Aviation Administration (FAA), Transport Airplane Directorate, ANM-114, Attention: Rules Docket No. 2000-NM-218-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2000-NM-218-AD” in the subject line and need not be submitted in triplicate. Comments sent via the Internet as attached electronic files must be formatted in Microsoft Word 97 for Windows or ASCII text.

The service information referenced in this AD may be obtained from Boeing Commercial Aircraft Group, Long Beach Division, 3855 Lakewood Boulevard, Long Beach, California 90846, Attention: Technical Publications Business Administration, Dept. C1-L51 (2-60). This information may be examined at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., Suite 700, Washington, DC.

FOR FURTHER INFORMATION CONTACT: Brett Portwood, Aerospace Engineer, Systems and Equipment Branch, ANM-130L, FAA, Transport Airplane Directorate, Los Angeles Aircraft Certification Office, 3960 Paramount Boulevard, Lakewood, California 90712-4137; telephone (562) 627-5350; fax (562) 627-5210.

SUPPLEMENTARY INFORMATION: On April 13, 1999, the FAA issued AD 99-09-04, amendment 39-11136 (64 FR 19695, April 22, 1999), applicable to certain McDonnell Douglas Model MD-11 series airplanes, to require a one-time inspection to verify correct wire terminations of certain circuit breakers in the cockpit overhead switch panel; and correction of incorrect wire termination. That AD also requires that operators submit a report of the inspection results to the FAA. That action was prompted by incidents in which the wiring of circuit breakers on the overhead switch panel lighting were found to be terminated improperly during production of the airplane, which bypassed the circuit breaker protection. The actions required by that AD are intended to prevent smoke and possible fire in the overhead switch panel lighting circuitry due to an overload condition, as a result of lack of circuit breaker protection.

The incident that prompted AD 99-09-04 is not considered to be related to an accident that occurred off the coast of Nova Scotia involving a McDonnell Douglas Model MD-11 series airplane. The cause of that accident is still under investigation.

Other Related Rulemaking

The FAA, in conjunction with Boeing and operators of Model MD-11 series airplanes, is continuing to review all aspects of the service history of those airplanes to identify potential unsafe conditions and to take appropriate corrective actions. This AD is one of a series of actions identified during that process. The process is continuing and the FAA may consider additional rulemaking actions as further results of the review become available.

Actions Since Issuance of Previous Rule

The applicability statement of AD 99-09-04 lists the manufacturer's fuselage numbers of the affected airplanes, which were provided by the airplane manufacturer and referenced in the effectivity listing of McDonnell Douglas Alert Service Bulletin MD11-33A027, dated March 10, 1999 (which was referenced as the appropriate source of service information for accomplishment of the requirements of that AD). Since the issuance of that AD, the airplane manufacturer has informed the FAA that it inadvertently omitted manufacturer's fuselage numbers 0476 through 0489 inclusive, and 0491 through 0509 inclusive, from the referenced service bulletin. The FAA has determined that airplanes having those manufacturer's fuselage numbers are subject to the identified unsafe condition in addition to those listed in the applicability of AD 99-09-04 (i.e., manufacturer's fuselage numbers 0447 through 0464 inclusive, and 0466 through 0475 inclusive).

The FAA has reviewed and approved McDonnell Douglas Alert Service Bulletin MD11-33A027, Revision 01, dated June 2, 1999, and Revision 02, dated June 12, 2000, which revise the effectivity listing of the original issue of the service bulletin by including additional manufacturer's fuselage numbers of affected airplanes. The inspection and corrective action are identical to those described in the original version of the service bulletin.

Explanation of Requirements of Rule

Since an unsafe condition has been identified that is likely to exist or develop on other airplanes of this same type design, this AD supersedes AD 99-09-04 to continue to require a one-time inspection to verify correct wire terminations of certain circuit breakers in the cockpit overhead switch panel; and correction of incorrect wire termination. This AD also expands the applicability of the existing AD to include additional airplanes.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-218-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11136 (64 FR 19695, April 22, 1999), and by adding a new airworthiness directive (AD), amendment 39-11845, to read as follows:

2000-15-13 McDonnell Douglas: Amendment 39-11845. Docket 2000-NM-218-AD. Supersedes AD 99-09-04, Amendment 39-11136.

Applicability: Model MD-11 series airplanes, manufacturer's fuselage numbers 0447 through 0464 inclusive, 0466 through 0475 inclusive; 0476 through 0489 inclusive; and 0491 through 0509 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent smoke and possible fire in the overhead switch panel lighting circuitry due to an overload condition, as a result of lack of circuit breaker protection, accomplish the following:

One-Time Inspection

(a) For airplanes having manufacturer's fuselage numbers 0447 through 0464 inclusive, and 0466 through 0475 inclusive: Within 60 days after May 7, 1999 (the effective date AD 99-09-04), perform a one-time inspection to verify correct wire terminations of certain circuit breakers in the cockpit overhead switch panel, in accordance with McDonnell Douglas Alert Service Bulletin MD11-33A027, dated March 10, 1999; Revision 01, dated June 2, 1999; or Revision 02, dated June 12, 2000. As of the effective date of this AD, only Revision 02 of the service bulletin shall be used.

(b) For airplanes having manufacturer's fuselage numbers 0476 through 0489 inclusive, and 0491 through 0509 inclusive: Within 60 days after the effective date of this AD, perform a one-time inspection to verify correct wire terminations of certain circuit breakers in the cockpit overhead switch panel, in accordance with McDonnell Douglas Alert Service Bulletin MD11-33A027, Revision 02, dated June 12, 2000.

Note 2: Inspection of certain circuit breakers in the cockpit overhead switch panel prior to the effective date of this AD in accordance with McDonnell Douglas Alert Service Bulletin MD11-33A027, dated March 10, 1999, or Revision 01, dated June 2, 1999; is considered acceptable for compliance with the requirements of paragraph (b) of this AD.

Condition 1 (Correct Wire Terminations)

(c) If, during the inspection required by either paragraph (a) or (b) of this AD, all affected circuit breakers are found to have correct wire terminations, no further action is required by this AD.

Condition 2 (Incorrect Wire Terminations)

(d) If, during the inspection required by either paragraph (a) or (b) of this AD, any affected circuit breaker is found to have an incorrect wire termination, prior to further flight, correct termination in accordance with McDonnell Douglas Alert Service Bulletin MD11-33A027, Revision 02, dated June 12, 2000.

Note 3: Correction of incorrect wire termination prior to the effective date of this AD in accordance with McDonnell Douglas Alert Service Bulletin MD11-33A027, dated March 10, 1999, or Revision 01, dated June 2, 1999; is considered acceptable for compliance with the requirements of paragraph (d) of this AD.

Alternative Methods of Compliance

(e) An alternative method of compliance or adjustment of the compliance time that provides an acceptable level of safety may be used if approved by the Manager, Los Angeles Aircraft Certification Office (ACO), FAA, Transport Airplane Directorate. Operators shall submit their requests through an appropriate FAA Principal Maintenance Inspector, who may add comments and then send it to the Manager, Los Angeles ACO.

Note 4: Information concerning the existence of approved alternative methods of compliance with this AD, if any, may be obtained from the Los Angeles ACO.

Special Flight Permits

(f) Special flight permits may be issued in accordance with §§ 21.197 and 21.199 of the Federal Aviation Regulations (14 CFR 21.197 and 21.199) to operate the airplane to a location where the requirements of this AD can be accomplished.

Incorporation by Reference

(g) The actions shall be done in accordance with McDonnell Douglas Alert Service Bulletin MD11-33A027, dated March 10, 1999; McDonnell Douglas Alert Service Bulletin MD11-33A027, Revision 01, dated June 2, 1999; or McDonnell Douglas Alert Service Bulletin MD11-33A027, Revision 02, dated June 12, 2000; as applicable.

(1) The incorporation by reference of McDonnell Douglas Alert Service Bulletin MD11-33A027, Revision 01, dated June 2, 1999, and McDonnell Douglas Alert Service Bulletin MD11-33A027, Revision 02, dated June 12, 2000, is approved by the Director of the Federal Register in accordance with 5 U.S.C. 552(a) and 1 CFR part 51.

(2) The incorporation by reference of McDonnell Douglas Alert Service Bulletin MD11-33A027, dated March 10, 1999, was approved previously by the Director of the Federal Register as of May 7, 1999 (64 FR 19695, April 22, 1999).

(3) Copies may be obtained from Boeing Commercial Aircraft Group, Long Beach Division, 3855 Lakewood Boulevard, Long Beach, California 90846, Attention: Technical Publications Business Administration, Dept. C1-L51 (2-60). Copies may be inspected at the FAA, Transport Airplane Directorate, 1601 Lind Avenue, SW., Renton, Washington; or at the FAA, Transport Airplane Directorate, Los Angeles Aircraft Certification Office, 3960 Paramount Boulevard, Lakewood, California; or at the Office of the Federal Register, 800 North Capitol Street, NW., suite 700, Washington, DC.

Effective Date

(h) This amendment becomes effective on August 23, 2000.

Issued in Renton, Washington, on July 28, 2000.
John J. Hickey,
Manager, Transport Airplane Directorate, Aircraft Certification Service.

[FR Doc. 00-19813 Filed 8-7-00; 8:45 am]

BILLING CODE 4910-13-U